NUCLEAR REGULATORY COMMISSION

[Docket Nos. 50-361, 50-362, and 72-41; NRC-2015-0023]

Southern California Edison Company; San Onofre Nuclear Generating Station, Units 2 and 3

AGENCY: Nuclear Regulatory Commission.

ACTION: Environmental assessment and finding of no significant impact; issuance.

SUMMARY: The U.S. Nuclear Regulatory Commission (NRC) is issuing an environmental assessment (EA) and finding of no significant impact (FONSI) related to a request to amend Facility Operating License Nos. NPF-10 and NPF-15 and Docket No. 72-41, issued to the Southern California Edison Company (SCE or “the licensee”), for operation of the San Onofre Nuclear Generating Station, Units 2 and 3 (hereinafter “SONGS” or “the facility”), including the general-license Independent Spent Fuel Storage Installation (ISFSI), located in San Diego County, California. The requested amendments would permit licensee security personnel to use certain firearms and ammunition feeding devices not previously permitted, notwithstanding State, local and certain Federal firearms laws or regulations that otherwise prohibit such actions.

ADDRESSES: Please refer to Docket ID NRC-2015-0023 when contacting the NRC about the availability of information regarding this document. You may obtain publicly-available information related to this document using any of the following methods:

• Federal Rulemaking Web site: Go to http://www.regulations.gov and search for Docket ID NRC-2015-0023. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced. The application for amendments for SONGS, dated August 28, 2013, as supplemented by a letter dated February 10, 2015, contain sensitive unclassified non-safeguards information and are being withheld from public disclosure.

• NRC's PDR: You may examine and purchase copies of public documents at the NRC's PDR, Room O1-F21, One White Flint North, 11555 Rockville Pike, Rockville, Maryland 20852.

FOR FURTHER INFORMATION CONTACT: Marlayna Vaaler, Office of Nuclear Material Safety and Safeguards, U.S. Nuclear Regulatory Commission, Washington, DC 20555-0001; telephone: 301-415-3178, email: Marlayna.Vaaler@nrc.gov.

SUPPLEMENTARY INFORMATION:

I. Introduction

The NRC is considering a request to amend Facility Operating License Nos. NPF-10 and NPF-15 and Docket No. 72-41, issued to SCE for the operation of SONGS, Units 2 and 3, including the general-license ISFSI, located in San Diego County, California, in accordance with 10 CFR 50.90 of title 10 of the Code of Federal Regulations (10 CFR). Consistent with 10 CFR 51.21, the NRC has reviewed the requirements in 10 CFR 51.20(b) and 10 CFR 51.22(c) and determined that an EA is the appropriate form of environmental review. Based on the results of the EA, the NRC is issuing this final FONSI. The requested amendment would permit licensee security personnel to use certain firearms and ammunition feeding devices not previously permitted, notwithstanding State, local, and certain Federal firearms laws or regulations that otherwise prohibit such actions.

The NRC published a draft EA and a FONSI on the proposed action for public comment in the Federal Register on November 10, 2015 (80 FR 69705). No comments were received.

II. Environmental Assessment

Identification of the Proposed Action

The proposed action would permit security personnel at SONGS during the performance of their official duties, to transfer, receive, possess, transport, import, and use certain firearms and large capacity ammunition feeding devices not previously permitted to be owned or possessed, notwithstanding State, local, and certain Federal firearms laws or regulations that otherwise prohibit such actions.

The proposed action is in accordance with the SONGS application dated August 28, 2013 (ADAMS Accession No. ML13242A277), as supplemented by letters dated December 31, 2013 (ADAMS Accession No. ML14007A496), May 15, 2014 (ADAMS Accession No. ML14139A424), and February 10, 2015 (ADAMS Accession No. ML15044A047).

The Need for the Proposed Action

The proposed action would allow the transfer, receipt, possession, transportation, importation, and use of those firearms and devices needed in the performance of official duties required for the protection of SONGS and associated special nuclear material, consistent with the SONGS NRC-approved security plan.

Environmental Impacts of the Proposed Action

The NRC has completed its evaluation of the proposed action and concludes that the proposed action would only allow the use of those firearms and devices necessary to protect the facility and associated special nuclear material, consistent with the SONGS NRC-approved security plan. Therefore, the proposed action would not significantly increase the probability or consequences of any accidents. In addition, the proposed action would not change the types and the amounts of any effluents that may be released off-site. There would also be no significant increase in occupational or public radiation exposure. Therefore, there would be no significant radiological environmental impacts associated with the proposed action.

The proposed action would not impact land, air, or water resources, including biota. In addition, the proposed action would not result in any socioeconomic or environmental justice impacts or impacts to historic and cultural resources. Therefore, there would also be no significant non-radiological environmental impacts associated with the proposed action.

Accordingly, the NRC concludes that the proposed action (license amendment) would not result in significant environmental impacts.

Environmental Impacts of the Alternatives to the Proposed Action

As an alternative to the proposed action, the NRC staff considered denying the proposed action (i.e., the “no-action” alternative). Denial of the license amendment request would result in no change to current environmental conditions at SONGS.

Alternative Use of Resources

The proposed action would not involve the use of any resources.

Agencies and Persons Consulted

The staff did not consult with any other Federal Agency or State of California agencies regarding the environmental impact of the proposed action.

III. Finding of No Significant Impact

The licensee has requested a license amendment to permit licensee security personnel, in the performance of official duties, to transfer, receive, possess, transport, import, and use certain firearms and large capacity ammunition feeding devices not previously permitted to be owned or possessed, notwithstanding State, local, and certain Federal firearms laws or regulations that would otherwise prohibit such actions.

On the basis of the information presented in this environmental assessment, the NRC concludes that the proposed action would not cause any significant environmental impact and would not have a significant effect on the quality of the human environment. In addition, the NRC has determined that an environmental impact statement is not necessary for the evaluation of this proposed action.

Other than the licensee's letter dated August 28, 2013, there are no other environmental documents associated with this review. This document is available for public inspection as indicated above.

Dated at Rockville, Maryland, this 14th day of December 2015.
For the Nuclear Regulatory Commission.
Bruce A. Watson,
Chief, Reactor Decommissioning Branch, Division of Decommissioning, Uranium Recovery and Waste Programs, Office of Nuclear Material Safety and Safeguards.

[FR Doc. 2015-32003 Filed 12-21-15; 8:45 am]

BILLING CODE 7590-01-P